FEDERAL ELECTION COMMISSION

Sunshine Act Meeting

AGENCY: Federal Election Commission.

DATE and TIME: Tuesday, June 28, 2016 at 10:00 a.m.

PLACE: 999 E Street NW., Washington, DC.

STATUS: This meeting will be closed to the public.

Federal Register notice of previous announcement—81 FR 40888.

Change in the Meeting: This meeting was continued on July 12, 2016.

Person to Contact for Information: Judith Ingram, Press Officer; Telephone: (202) 694-1220.

Shelley E. Garr,
Deputy Secretary.

[FR Doc. 2016-16805 Filed 7-12-16; 4:15 pm]

BILLING CODE 6715-01-P